OFFICE OF THE UNITED STATES TRADE REPRESENTATIVE

Generalized System of Preferences (GSP): Import Statistics Relating to Competitive Need Limitations; 2007 Annual GSP Review; Petitions Requesting CNL Waivers

AGENCY: Office of the United States Trade Representative.

ACTION: Notice.

SUMMARY: This notice is to inform the public of the availability of eight-month 2007 import statistics relating to competitive need limitations (CNLs) under the Generalized System of Preferences (GSP) program. The eight-month 2007 import statistics identify those articles for which the full-year 2007 trade levels may exceed statutory CNLs. The eight-month 2007 trade data is available at: [GSP: January-August 2007 Trade Data Relating to CNLs]: http://www.ustr.gov/Trade_Development/Preference_Programs/GSP/GSP_2007_Annual_Review/Section_Index.html.

As previously announced in the Federal Register (72 FR 28527 (May 21, 2007)), the deadline for submission of petitions to waive the CNLs for individual beneficiary developing countries with respect to GSP-eligible articles is 5 p.m., November 16, 2007. Petitions must conform to the requirements as set forth in the May 21, 2007, Federal Register notice. Public comments regarding possible de minimis waivers and possible GSP redesignations will be requested in a subsequent Federal Register notice.

FOR FURTHER INFORMATION CONTACT: Contact the GSP Subcommittee of the Trade Policy Staff Committee, Office of the United States Trade Representative, 1724 F Street, NW., Room F-220, Washington, DC 20508. The telephone number is (202) 395-6971.

SUPPLEMENTARY INFORMATION:

I. Competitive Need Limitations

The GSP program provides for the duty-free importation of designated articles when imported from designated beneficiary developing countries (BDCs). The GSP program is authorized by title V of the Trade Act of 1974 (19 U.S.C. 2461, et seq.), as amended (the “1974 Act”), and is implemented in accordance with Executive Order 11888 of November 24, 1975, as modified by subsequent Executive Orders and Presidential Proclamations.

Section 503(c)(2)(A) of the 1974 Act sets out the two competitive need limitations (CNLs). When the President determines that a BDC exported to the United States during a calendar year either: (1) A quantity of a GSP-eligible article having a value in excess of the applicable amount for that year ($130 million for 2007), or (2) a quantity of a GSP-eligible article having a value equal to or greater than 50 percent of the value of total U.S. imports of the article from all countries (the “50 percent CNL”), the President must terminate GSP duty-free treatment for that article from that BDC by no later than July 1 of the next calendar year. However, Section 503(d) of the 1974 Act, sets forth the criteria under which the President may grant a waiver of the CNL for articles imported from specific BDCs. Product petitions requesting CNL waivers for GSP-eligible articles from beneficiary developing countries that exceed the CNLs in 2007 must be filed in the 2007 Annual Review.

Under section 503(c)(2)(F) of the 1974 Act, the President may also waive the 50 percent CNL with respect to an eligible article imported from a BDC if the value of total imports of that article from all countries during the calendar year did not exceed the applicable de minimis amount for that year ($18.5 million for 2007). Comments on de minimis waivers will be requested after publication of a separate Federal Register notice in February 2008.

II. Implementation of Competitive Need Limitations

Exclusions from GSP duty-free treatment where CNLs have been exceeded will be effective July 1, 2008, unless granted a waiver before that date by the President. CNL exclusions will be based on full calendar-year 2007 import statistics. Full calendar-year 2007 data for individual tariff subheadings will be available in February 2008 on the Web site of the U.S. International Trade Commission at http://dataweb.usitc.gov/.

III. January-August 2007 Import Statistics

In order to provide advance notice of articles that may exceed the CNLs for 2007, “January—August 2007 Trade Data Relating to CNLs” that cover the first eight months of 2007 can be viewed at: http://www.ustr.gov/Trade_Development/Preference_Programs/GSP/GSP_2007_Annual_Review/Section_Index.html. If unable to access these statistics, contact the GSP Subcommittee of the Trade Policy Staff Committee, which will make alternate arrangements to provide the lists.

The January-August 2007 statistics are organized to show, for each article, the Harmonized Tariff Schedule of the United States (HTSUS) subheading and BDC of origin, the value of imports of the article for the first eight months of 2007, and the percentage of imports of that article from that BDC of total imports of that article from all countries. The list includes: (1) GSP-eligible articles from BDCs that have already exceeded the CNLs because their import levels in 2007 already amount to more than $130 million, or by an amount greater than 50 percent of the total value of U.S. imports of that product in 2007; and (2) GSP-eligible articles that, based upon the eight-month 2007 data, exceed $100 million or an amount greater than 42 percent of the total value of U.S. imports of that product.

The “D” flag next to articles on the list indicates articles that, based on the eight-month 2007 trade data, may be eligible for a de minimis waiver because the total value of imports of that article from all countries is equal to or less than $12.5 million. Comments on de minimis waivers will be requested after publication of a separate Federal Register notice in February 2008.

The list published on the USTR Web site is provided for informational purposes only. The list is computer-generated and based on January—August 2007 data, and may not include all articles that may be affected by the GSP CNLs. Regardless of whether or not an article is included on the list, all determinations and decisions regarding the CNLs of the GSP program will depend on full, calendar-year 2007 import data with respect to each GSP-eligible article. Each interested party is advised to conduct its own review of 2007 import data with regard to the possible application of GSP CNLs and submission of a petition to waive the CNLs. Please see the notice announcing the 2007 GSP Review that was published in the Federal Register on May 21, 2007 for further details on submitting a petition for a CNL waiver.

Marideth J. Sandler,
Executive Director for the GSP Program, Chair, GSP Subcommittee of the Trade Policy Staff Committee.

[FR Doc. E7-20964 Filed 10-23-07; 8:45 am]

BILLING CODE 3190-W8-P